DEPARTMENT OF COMMERCE

International Trade Administration

[A-552-802]

Certain Frozen Warmwater Shrimp From the Socialist Republic of Vietnam: Partial Rescission of Antidumping Duty Administrative Review; 2018-2019

AGENCY: Enforcement and Compliance, International Trade Administration, Department of Commerce.

SUMMARY: The Department of Commerce (Commerce) is rescinding, in part, the administrative review of the antidumping duty order on certain frozen warmwater shrimp from the Socialist Republic of Vietnam (Vietnam) for the period February 1, 2018, through January 31, 2019.

DATES: Applicable June 21, 2019.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On May 2, 2019, based on timely requests for review for 107 companies by the Ad Hoc Shrimp Trade Action Committee (the petitioner),¹ 185 companies by the American Shrimp Processors Association (ASPA),² and various Vietnamese companies,³ Commerce published in the Federal Register a notice of initiation of an administrative review of the antidumping duty order on certain frozen warmwater shrimp from Vietnam covering the period February 1, 2018, through January 31, 2019.⁴

¹ See the Petitioner's Request for Administrative Review, dated February 27, 2019.

² See ASPA's Request for Administrative Review, dated February 27, 2019.

³ See, e.g., VASEP's submission, “Request for Administrative Review (02/01/18-01/31/19),” dated February 26, 2019; Soc Trang Seafood Seafood Joint Stock Company's “Request for Review,” dated February 11, 2019.

⁴ See Initiation of Antidumping and Countervailing Duty Administrative Reviews, 84 FR 18777 (May 2, 2019) (Initiation Notice).

On May 31, 2019, Commerce published in the Federal Register a notice of rescission, in part, wherein Commerce rescinded the administrative review for 40 companies, based on timely-filed withdrawals of review requests from the petitioner, ASPA, and certain Vietnamese companies.⁵

⁵ See Certain Frozen Warmwater Shrimp from the Socialist Republic of Vietnam: Partial Rescission of Antidumping Duty Administrative Review; 2018-2019, 84 FR 25238 (May 31, 2019).

On May 30, 2019, and May 31, 2019, the petitioner and ASPA withdrew their respective review requests, in part, for an additional five Vietnamese exporters initiated for review.⁶ On May 30, 2019, Quoc Viet Seaproducts Processing Trade and Import-Export Co., Ltd. withdrew its review requests.⁷ On May 31, 2019, Soc Trang Seafood Joint Stock Company withdrew its review request.⁸ On June 6, 2019, the petitioner and ASPA withdrew their respective review requests for an additional three companies.⁹

⁶ See the Petitioner's Submission, “Domestic Producers' Partial Withdrawal of Review Requests,” dated May 30, 2019; ASPA's Submissions, “Partial Withdrawal of Review Requests,” and “Corrections to Partial Withdrawal of Review Requests,” both dated May 31, 2019. Of these five companies, only two of them had also requested an administrative review; thus, three of these companies had only been requested for review by the petitioner and ASPA (Bien Dong Seafood Co., Ltd.; NGO BROS Seaproducts Import-Export One Member Company Limited; and Seavina Joint Stock Company).

⁷ See Quoc Viet Seaproducts Processing Trade and Import-Export Co., Ltd. Submission, “Withdrawal of Review Request,” dated May 30, 2019.

⁸ See Soc Trang Seafood Joint Stock Company Submission, “Withdrawal of Request for Administrative Review,” dated May 31, 2019.

⁹ See the Petitioner's Submission, “Domestic Producers' Partial Withdrawal of Review Requests,” dated June 6, 2019; see also ASPA's Submission, “Partial Withdrawal of Review Requests,” dated June 6, 2019. All three companies withdrawn had only been requested for review by the petitioner and ASPA; thus, no other review requests remain on the record for Au Vung One Seafood Processing Import & Export Joint Stock Company, Au Vung Two Seafood Processing Import & Export Joint Stock Company, and Thanh Doan Sea Products Import & Export Processing Joint Stock Company.

All interested parties that withdrew their requests for review of companies also included those companies' name variations, as listed in the Initiation Notice and the attached Appendix. All review requests for the company names listed in the Appendix have been withdrawn; no other party requested a review of these exporters.

Two additional companies withdrew their review requests on May 30, 2019.¹⁰ However, because the petitioner and ASPA did not withdraw their respective review requests for these two companies, the two companies remain under active review.

¹⁰ See Cadovimex Seafood Import-Export & Processing Joint-Stock Company and Trong Nhan Seafood Company Limited's Submission, “Withdrawal of Entry of Appearance and Review Request,” dated May 30, 2019.

Partial Rescission of Review

Pursuant to 19 CFR 351.213(d)(1), Commerce will rescind an administrative review, in whole or in part, if the party that requested the review withdraws its request within 90 days of the publication of the notice of initiation of the requested review. Because the petitioner, ASPA, and the individual companies all withdrew their requests for administrative review within 90 days of the date of publication of the Initiation Notice, and no other interested party requested a review of these companies, Commerce is rescinding this review with respect to the companies identified in the Appendix, in accordance with 19 CFR 351.213(d)(1).

Assessment

Commerce will instruct U.S. Customs and Border Protection (CBP) to assess antidumping duties on all appropriate entries at a rate equal to the cash deposit of estimated antidumping duties required at the time of entry, or withdrawal from warehouse, for consumption, during the period February 1, 2018, through January 31, 2019, in accordance with 19 CFR 351.212(c)(1)(i). Commerce intends to issue appropriate assessment instructions to CBP 15 days after the publication of this notice in the Federal Register, if appropriate.

Notifications

This notice serves as a reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: June 18, 2019.
James Maeder,
Acting Deputy Assistant Secretary for Antidumping and Countervailing Duty Operations.

Appendix

Companies Rescinded From Review

1. —Au Vung One Seafood Processing Import & Export Joint Stock Company

2. —Au Vung Two Seafood Processing Import & Export Joint Stock Company

3. —Bien Dong Seafood Co., Ltd

4. —NGO BROS Seaproducts Import-Export One Member Company Limited (“NGO BROS Company”)

—Ngo Bros Seaproducts Import-Export One Member Company Limited (“Ngo Bros. Co., Ltd.”)

—Ngo Bros Seaproducts Import-Export One Member Company Limited (Ngo Bros)

—NGO BROS Seaproducts Import-Export One Member Company Limited (NGO BROS)

5. —Quoc Viet Seaproducts Processing Trading and Import-Export Co., Ltd.

—Quoc Viet Seaproducts Processing Trade and Import-Export Co., Ltd. (Quoc Viet Co., Ltd.)

—Quoc Viet Seaproducts Processing Trade and Import-Export Co., Ltd. (“Quoc Viet Co. Ltd.”)

6. —Seavina Joint Stock Co

—Seavina Joint Stock Company

7. —Soc Trang Seafood Joint Stock Company (STAPIMEX)

—Soc Trang Seafood Joint Stock Company (“STAPIMEX”)

8. —Thanh Doan Sea Products Import & Export Processing Joint Stock Company Thadimexco

—Thanh Doan Sea Products Import & Export Processing Joint-Stock Company (THADIMEXCO)

[FR Doc. 2019-13251 Filed 6-20-19; 8:45 am]

BILLING CODE 3510-DS-P